COMMISSION ON CIVIL RIGHTS

Notice of Cancellation of Public Meeting of the Ohio Advisory Committee

Notice is hereby given, pursuant to the provisions of the rules and regulations of the U.S. Commission on Civil Rights, that a meeting of the Ohio Advisory Committee to the Commission which was to have convened at 1:00 p.m. and adjourned at 5:00 p.m. on Wednesday, September 26, 2001, at the Hyatt Regency Hotel, 350 North High Street, Columbus, Ohio, has been canceled.

The original notice for the meeting was announced in the Federal Register on September 5, 2001, FR Doc. 01-22212, Vol. 66, No. 172, Page 46432.

Persons desiring additional information should contact Constance M. Davis, Director of the Midwestern Regional Office, 312-353-8311 (TDD 312-353-8362).

Dated at Washington, DC, September 19, 2001.
Ivy L. Davis,
Chief, Regional Programs Coordination Unit.

[FR Doc. 01-23992 Filed 9-20-01; 5:01 pm]

BILLING CODE 6335-01-P